FEDERAL HOUSING FINANCE AGENCY

[No. 2010-N-07]

Privacy Act of 1974; System of Records

AGENCY: Federal Housing Finance Agency.

ACTION: Notice of the establishment of a new system of records.

SUMMARY: The Federal Housing Finance Agency (FHFA) is revising the proposed system of records notice that was published in the Federal Register May 10, 2010, at 75 FR 25856. The system of records is “Compensation Information Provided by the Regulated Entities” (FHFA-4), which will contain compensation-related information on entities regulated by FHFA.

DATES: This system of records will become effective on June 21, 2010.

FOR FURTHER INFORMATION CONTACT: John Major, Privacy Act Officer, john.major@fhfa.gov, 202-408-2849; or David A. Lee, Senior Agency Official for Privacy, david.lee@fhfa.gov, 202-408-2514 (not toll-free numbers), Federal Housing Finance Agency, 1700 G Street NW., Fourth Floor, Washington, DC 20552. The telephone number for the Telecommunications Device for the Deaf is 800-877-8339.

SUPPLEMENTARY INFORMATION:

This notice informs the public of FHFA's system of records called “Compensation Information Provided by the Regulated Entities” (FHFA-4), which will contain compensation-related information on entities regulated by FHFA, namely, the Federal Home Loan Banks, the Federal Home Loan Mortgage Corporation, and the Federal National Mortgage Association. This system of records notice will replace the proposed system of records notice published in the Federal Register on May 10, 2010, at 75 FR 25856. The information in the system of records is needed for FHFA staff members to make and support determinations relating to compensation consistent with the safety and soundness responsibilities of FHFA.

FHFA issued a proposed system of records notice in the Federal Register on May 10, 2010, at 75 FR 25856. FHFA received one public comment. The commenter requested that FHFA define the term “executive” as the term “executive officer” will be defined in FHFA's forthcoming final rule on executive compensation. FHFA has determined that a definition of the term is not necessary in this system of records notice. In addition, FHFA has deleted the reference to “employees” in the category of individuals covered by the system.

This notice satisfies the Privacy Act requirement that an agency publish a system of records notice in the Federal Register when there is an addition to the agency's system of records. It has been recognized by Congress that application of all requirements of the Privacy Act to certain categories of records may have an undesirable and often unacceptable effect upon agencies in the conduct of necessary public business. Consequently, Congress established general exemptions and specific exemptions that could be used to exempt records from provisions of the Privacy Act. Congress also required that exempting records from provisions of the Privacy Act would require the head of an agency to publish a determination to exempt a record from the Privacy Act as a rule in accordance with the Administrative Procedures Act. The Director of FHFA has determined that records and information in this new system of records is not exempt from requirements of the Privacy Act.

As required by the Privacy Act, 5 U.S.C. 552a(r), and pursuant to paragraph 4c of Appendix I to OMB Circular No. A-130, “Federal Agency Responsibilities for Maintaining Records About Individuals,” dated February 8, 1996 (February 20, 1996; 61 FR 6427, 35), FHFA has submitted a report describing the new system of records covered by this notice, to the Committee on Government Operations of the House of Representatives, the Committee on Governmental Affairs of the Senate, and the Office of Management and Budget.

The system of records is set forth in its entirety below.

Dated: June 15, 2010.
Edward J. DeMarco,
Acting Director, Federal Housing Finance Agency.

FHFA-4

system name:

Compensation Information Provided by the Regulated Entities.

security classification:

Unclassified but sensitive.

system location:

Federal Housing Finance Agency, 1700 G Street, NW., Washington, DC 20552 and 1625 Eye Street, NW., Washington, DC 20006.

categories of individuals covered by the system:

Present and former directors and executives of the Federal Home Loan Banks, the Federal Home Loan Mortgage Corporation, and the Federal National Mortgage Association (collectively, “regulated entities”).

categories of records in the system:

Records contain information such as name, position, organization, address, education, professional credentials, work history, compensation data, and employment information of present and former directors and executives of the regulated entities.

authority for maintenance of the system:

The system is established and maintained pursuant to 12 U.S.C. 1427, 1452(h), 4502(6), 4502(12), 4513, 4514, 4517, 4518, 4526, 4617, 4631, 4632, 4636, and 1723a(d).

purpose(s):

The information in this system of records will be analyzed and evaluated by FHFA staff members in carrying out the statutory authorities of the Director with respect to the oversight of compensation provided by the regulated entities, consistent with the safety and soundness responsibilities of FHFA under the Federal Housing Enterprises Financial Safety and Soundness Act of 1992, as amended, and the Federal Home Loan Bank Act, as amended.

routine uses of records maintained in the system, including categories of users and the purposes of such uses:

It shall be a routine use to disclose information contained in this system for the purposes and to the users identified below:

1. FHFA personnel authorized as having a need to access the records in performance of their official functions.

2. Another Federal agency if the records are relevant and necessary to carry out that agency's authorized functions and consistent with the purpose of the system.

3. A consultant, person, or entity that contracts or subcontracts with FHFA, to the extent necessary for the performance of the contract or subcontract and consistent with the purpose of the system, provided that the person or entity acknowledges in writing that it is required to maintain Privacy Act safeguards for the information.

Disclosure to Consumer Reporting Agencies:

None.

policies and practice for storing, retrieving, accessing, retaining and disposing of records in the system:

Storage:

Records in this system are stored in paper and electronic format.

Retrievability:

Records can be retrieved by last name, first name, organization, and position.

Safeguards:

Records are maintained in controlled access areas. Electronic records are protected by restricted access procedures, including user identifications and passwords. Only FHFA staff members whose official duties require access are allowed to view, administer, and control these records.

Retention and Disposal:

Records are maintained in accordance with National Archives and Records Administration and FHFA retention schedules. Records are disposed of according to accepted techniques.

System Manager(s) and Address:

Office of Policy, Analysis and Research and the Division of Bank Regulation, Federal Housing Finance Agency, 1700 G Street, NW., Washington, DC 20552.

Notification Procedures:

Direct inquiries as to whether this system contains a record pertaining to an individual to the Privacy Act Officer by electronic mail, regular mail, or fax. The electronic mail address is privacy@fhfa.gov. The regular mail address is: Privacy Act Officer, Federal Housing Finance Agency, 1625 Eye Street, NW., Washington, DC 20006. The fax number is 202-408-2580. For the quickest possible handling, you should mark your electronic mail, letter, or fax and the subject line, envelope, or fax cover sheet “Privacy Act Request” in accordance with the procedures set forth in 12 CFR part 1204.

Record Access Procedures:

Direct requests to access, amend, or correct a record to the Privacy Act Officer, Federal Housing Finance Agency, 1625 Eye Street, NW., Washington, DC 20006, in accordance with the procedures set forth in 12 CFR part 1204.

Contesting Record Procedures:

Direct requests to contest or appeal an adverse determination for a record to the Privacy Act Appeals Officer, Federal Housing Finance Agency, 1700 G Street, NW., Washington, DC 20552, in accordance with the procedures set forth in 12 CFR part 1204.

Record Source Categories:

The information is obtained from the regulated entities.

Exemptions Claimed for the System:

Some information in this system that is investigatory and compiled for law enforcement purposes is exempt under subsection 552a(k)(2) of the Privacy Act to the extent that information within the system meets the criteria of that subsection of the Privacy Act. The exemption is necessary in order to protect information relating to law enforcement investigations and interference with investigatory and law enforcement activities. The exemption will preclude subjects of investigations from frustrating investigations, will avoid disclosure of investigative techniques, will protect the identities and safety of confidential informants and of law enforcement personnel, will ensure FHFA's ability to obtain information from various sources, will protect the privacy of third-parties, and will safeguard sensitive information.

Some information contained in this system of records may be proprietary to other Federal agencies and subject to exemptions imposed by those agencies, including the criminal law enforcement investigatory material exemption of 5 U.S.C. 552a(j)(2).

[FR Doc. 2010-14912 Filed 6-18-10; 8:45 am]

BILLING CODE 8070-01-P